POSTAL SERVICE

Change in Classes of General Applicability for Competitive Products

AGENCY: Postal Service™.

ACTION: Notice of a change in classes of general applicability for competitive products.

SUMMARY: This notice sets forth changes in classes of general applicability for competitive products.

DATES: Applicable date: July 14, 2024.

FOR FURTHER INFORMATION CONTACT: Christopher C. Meyerson, 202-268-7820.

SUPPLEMENTARY INFORMATION: On February 8, 2024, pursuant to their authority under 39 U.S.C. 3632 and 3642, the Governors of the Postal Service established classification changes for rate categories for vendor-assisted electronic money transfer, which are within the International Money Transfer Service—Outbound product found at Mail Classification Schedule section 2620.3. The Governors' Decision and the record of proceedings in connection with such decision are reprinted below in accordance with section 3632(b)(2).

Sarah Sullivan,
Attorney, Ethics and Legal Compliance.

Decision of the Governors of the United States Postal Service on Mail Classification Schedule Changes Concerning International Money Transfer Service—Outbound and International Money Transfer Service—Inbound (Governors' Decision No. 24-2)

February 8, 2024

Statement of Explanation and Justification

Pursuant to our authority under section 404(b) and Chapter 36 of title 39, United States Code, the Governors establish classification changes to the International Money Transfer Service (IMTS)—Outbound product and the IMTS—Inbound product, to occur in three phases.

As for the first phase, the IMTS—Outbound product includes an Electronic Money Transfer service that enables customers to make payments or transfer funds to individuals or firms in foreign destinations. Electronic money transfers are available through the Sure Money (DineroSeguro) service, which is based on an agreement with a financial services company. During the last few years there have been significant declines in the number of electronic money transfers purchased from the Postal Service, and despite substantial historical price increases, the Sure Money (DineroSeguro) service has not covered its costs. Thus, the Postal Service intends to terminate the Sure Money (DineroSeguro) service by removing the prices and price categories in Mail Classification Schedule section 2620 that concerns IMTS—Outbound.

As for the second and third phases, IMTS—Outbound enables customers to make payments or transfer funds to individuals or firms in foreign destinations. This product includes hardcopy international postal money orders, which may be offered in cooperation with foreign postal operators. IMTS—Inbound provides a service to foreign postal operators for cashing of hard copy international postal money orders sent to recipients in the United States. During the last few years there have been significant declines in the number of international postal money orders sold and cashed by the Postal Service, and despite substantial historical price increases, the international postal money order service has not covered its costs.

Currently, both the outbound and inbound international postal money order services are based on underlying bilateral agreements executed with various foreign postal operators. During the last few years, there have been significant declines in the number of international postal money orders purchased. Thus, the Postal Service intends to terminate both the outbound and inbound international postal money order services, first by terminating the sales of international postal money orders and removing the text concerning the IMTS—Outbound product from the Mail Classification Schedule, and then by terminating the cashing of international postal money orders and removing the text concerning the IMTS—Inbound product from the Mail Classification Schedule.

We have evaluated the classification changes to IMTS—Outbound and IMTS—Inbound in this context in accordance with 39 U.S.C. 3632 and § 3642. We approve the changes, finding that they are appropriate, and are consistent with the applicable criteria.

Order

We direct management to coordinate with the U.S. Department to State concerning the termination of the underlying bilateral agreements in order to determine the consistency of this action with the Universal Postal Union Postal Payment Services Agreement, and to file with the Postal Regulatory Commission the required documents and supporting documents consistent with this Decision. The changes in classification to the Mail Classification Schedule set forth herein shall be implemented in the following three phases,

• The removal of prices for Sure Money (DineroSeguro) for IMTS—Outbound from the Mail Classification Schedule, effective July 14, 2024, or as soon as practicable thereafter (Phase I),

• The removal of the IMTS—Outbound product from the Mail Classification Schedule, effective October 1, 2024, or as soon as practicable thereafter (Phase II),

• The removal of the IMTS—Inbound product from the Mail Classification Schedule, effective October 1, 2025, or as soon as practicable thereafter (Phase III).

By The Governors:

/s/

Roman Martinez IV,

Chairman, Board of Governors.

United States Postal Service Offie of the Board of Governors

Certification of Governors' Vote on Governors' Decision No. 24-2

Consistent with 39 U.S.C. 3632(a), I hereby certify that, on February 8, 2024, the Governors voted on adopting Governors' Decision No. 24-2, and that a majority of the Governors then holding office voted in favor of that Decision.

/s/

February 8, 2024

Michael J. Elston,

Secretary of the Board of Governors.

Part B

Competitive Products

2000 Competitive Product List

* * * * *

2600 Special Services

* * * * *

2620 International Money Transfer Service—Outbound

* * * * *

2620.3 Prices

* * * * *

Vendor Assisted Electronic Money Transfer

[Reserved]

* * * * *

[FR Doc. 2024-07982 Filed 4-15-24; 8:45 am]

BILLING CODE 7710-12-P